COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds product(s) to the Procurement List that will be furnished by nonprofit agencies employing persons who are blind or have other severe disabilities.

DATES: Date added to the Procurement List: June 18, 2023

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Additions

On 6/24/2022; 7/8/2022; 12/23/2022; 3/17/2023, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and impact of the additions on the current or most recent contractors, the Committee has determined that the product(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) to the Government.

3. There are no known regulatory alternatives which would accomplish the objectives of the Javits-Wagner-O'Day Act (41 U.S.C. 8501-8506) in connection with the product(s) proposed for addition to the Procurement List.

End of Certification

Accordingly, the following product(s) are added to the Procurement List:

Product(s)

NSN(s)—Product Name(s):

MR 1191—Tri Angle Mop

Designated Source of Supply: LC Industries, Inc., Durham, NC

Mandatory for: The requirements of military commissaries and exchanges in accordance with the 41 CFR 51-6.4

Contracting Activity: Defense Commissary Agency

Distribution: C-List

NSN(s)—Product Name(s):

MR 16900—Set, Birthday Bag, Small

MR 16901—Set, All-Occasion Bag, Small

MR 16902—Set, Birthday Bag, Medium

MR 16903—Set, All-Occasion Bag, Medium

Designated Source of Supply: Winston-Salem Industries for the Blind, Inc, Winston-Salem, NC

Mandatory for: The requirements of military commissaries and exchanges in accordance with the 41 CFR 51-6.4

Contracting Activity: Defense Commissary Agency

Distribution: C-List

NSN(s)—Product Name(s):

5120-01-399-9477—Socket, ¼″ Drive, 9/32″ Shallow SAE 6 Point Fasteners

5120-01-355-1632—Socket Set, ¼″ Drive, 3/16″ Deep, SAE 6 Point Fastener

5120-01-335-0949—Socket Set, ¼″ Drive, 7/32″ Deep, SAE 6 Point Fastener

5120-01-348-9250—

5120-01-348-9251—Socket, Chrome, ¼″ Drive, 5 mm Shallow, Metric 6 Point Fastener

5120-01-348-9253—Socket, Chrome, ¼″ Drive, 6 mm Shallow, Metric 6 Point Fastener

5120-01-348-9254—Socket, Chrome, ¼″ Drive, 7 mm Shallow, Metric 6 Point Fastener

5120-01-348-9257—Socket, Chrome, ¼″ Drive, 10 mm Shallow, Metric 6 Point Fastener

5120-01-348-9291—Socket, Chrome, ¼″ Drive, 12 mm Shallow, Metric 6 Point Fastener

5120-01-348-9292—Socket, Chrome, ¼″ Drive, 13 mm Shallow, Metric 6 Point Fastener

5120-01-348-9293—Socket, Chrome, ¼″ Drive, 14 mm Shallow, Metric 6 Point Fastener

5120-01-348-7270—Socket, Chrome, ¼″ Drive, 5 mm Deep, Metric 6 Point Fastener

5120-01-348-7271—Socket, Chrome, ¼″ Drive, 5.5 mm Deep, Metric 6 Point Fastener

5120-01-348-7272—Socket, Chrome, ¼″ Drive, 6 mm Deep, Metric 6 Point Fastener

5120-01-348-7273—Socket, Chrome, ¼″ Drive, 7 mm Deep, Metric 6 Point Fastener

5120-01-112-9519—Socket, Chrome, ¼″ Drive, 8 mm Deep, Metric 6 Point Fastener

5120-01-348-7275—Socket, Chrome, ¼″ Drive, 9 mm Deep, Metric 6 Point Fastener

5120-01-080-6534—Socket, Chrome, ¼″ Drive, 10 mm Deep, Metric 6 Point Fastener

5120-01-348-7264—Socket, Chrome, ¼″ Drive, 11 mm Deep, Metric 6 Point Fastener

5120-01-348-7265—Socket, Chrome, ¼″ Drive, 12 mm Deep, Metric 6 Point Fastener

5120-01-348-7266—Socket, Chrome, ¼″ Drive, 13 mm Deep, Metric 6 Point Fastener

5120-01-348-7267—Socket, Chrome, ¼″ Drive, 14 mm Deep, Metric 6 Point Fastener

5120-01-348-9189—Socket, Chrome ⅜″ Drive, 10 mm Deep, Metric 6 Point Fastener

5120-01-348-9196—Socket, Chrome ⅜″ Drive, 17 mm Deep, Metric 6 Point Fastener

5120-01-348-9197—Socket, Chrome ⅜″ Drive, 18 mm Deep, Metric 6 Point Fastener

5120-01-335-1070—Extension, Chrome, ¼″ Drive, 2″ Knurled

5120-01-335-1071—Extension, Chrome, ¼″ Drive, 4″ Knurled

5120-01-335-0714—Breaker Bar, Chrome, ½″ Drive, 15½″

5120-01-335-0935—Socket, ¼″ Drive, 3/16″ Shallow SAE 6 Point Fasteners

5120-01-335-1057—Extension, Chrome, ⅜″ Drive, 3″ Knurled Friction Ball

5120-01-335-1059—Extension, Chrome, ⅜″ Drive, 6″ Knurled Friction Ball

5120-01-335-1061—Extension, Chrome, ⅜″ Drive, 11″ Knurled Friction Ball

5120-01-355-1865—Speeder Drive, Chrome, ⅜″ Drive, 18″

5120-01-348-9190—Socket, Chrome ⅜″ Drive, 11 mm Deep, Metric 6 Point Fastener

5120-01-348-9191—Socket, Chrome ⅜″ Drive, 12 mm Deep, Metric 6 Point Fastener

5120-01-348-9192—Socket, Chrome ⅜″ Drive, 13 mm Deep, Metric 6 Point Fastener

5120-01-348-9194—Socket, Chrome ⅜″ Drive, 15 mm Deep, Metric 6 Point Fastener

5120-01-348-9195—Socket, Chrome ⅜″ Drive, 16 mm Deep, Metric 6 Point Fastener

5120-01-348-9193—Socket, Chrome ⅜″ Drive, 14 mm Deep, Metric 6 Point Fastener

5120-01-348-9251—Socket, Chrome, ¼″ Drive, 5 mm Shallow, Metric 6 Point Fastener

5120-01-335-0934—Socket, ¼″ Drive, 7/32″ Shallow SAE 6 Point Fasteners

5120-01-335-1045—Universal Joint, Chrome, ⅜″ Drive, 2″ Friction Ball

5120-01-348-9107—Socket, Chrome ⅜″ Drive, 19 mm Deep, Metric 6 Point Fastener

5120-01-348-9187—Socket, Chrome ⅜″ Drive, 8 mm Deep, Metric 6 Point Fastener

5120-01-348-9188—Socket, Chrome ⅜″ Drive, 9 mm Deep, Metric 6 Point Fastener

5120-01-348-9255—Socket, Chrome, ¼″ Drive, 8 mm Shallow, Metric 6 Point Fastener

5120-01-348-9256—Socket, Chrome, ¼″ Drive, 9 mm Shallow, Metric 6 Point Fastener

5120-01-348-9290—Socket, Chrome, ¼″ Drive, 11 mm Shallow, Metric 6 Point Fastener

5120-01-335-0951—Socket Set, ¼″ Drive, 9/32″ Deep, SAE 6 Point Fastener

5120-01-348-9252—Socket, Chrome, ¼″ Drive, 5.5 mm Shallow, Metric 6 Point Fastener

5120-01-335-0950—Socket Set, ¼″ Drive, ¼″ Deep, SAE 6 Point Fastener

5120-01-355-1864—Breaker Bar, Chrome, ⅜″ Drive, 8 9/16″

Designated Source of Supply: Wiscraft, Inc., Milwaukee, WI

Mandatory for: Broad Government Requirement

Contracting Activity: FEDERAL ACQUISITION SERVICE, FAS HEARTLAND REGIONAL ADMINISTRATO

Distribution: B-List

NSN(s)—Product Name(s):

8520-01-490-7358—Instant Hand Sanitizer, Gel, Portable Flip Cap Bottle, 4oz

8520-01-490-7370—Soap, Antibacterial, Pump Bottle, 12oz

Designated Source of Supply: Travis Association for the Blind, Austin, TX

Mandatory for: Broad Government Requirement

Contracting Activity: FEDERAL ACQUISITION SERVICE, GSA/FSS GREATER SOUTHWEST ACQUISITI

Distribution: B-List

Michael R. Jurkowski,
Acting Director, Business Operations.

[FR Doc. 2023-10717 Filed 5-18-23; 8:45 am]

BILLING CODE 6353-01-P